DEPARTMENT OF THE INTERIOR

National Park Service

[NPS-WASO-NAGPRA-NPS0031570; PPWOCRADN0-PCU00RP14.R50000]

Notice of Intent To Repatriate Cultural Items: Kentucky Museum, Western Kentucky University, Bowling Green, KY

AGENCY: National Park Service, Interior.

ACTION: Notice.

SUMMARY: The Kentucky Museum, Western Kentucky University, in consultation with the appropriate Indian Tribes or Native Hawaiian organizations, has determined that the cultural item listed in this notice meets the definition of an unassociated funerary object. Lineal descendants or representatives of any Indian Tribe or Native Hawaiian organization not identified in this notice that wish to claim this cultural item should submit a written request to The Kentucky Museum, Western Kentucky University. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to The Kentucky Museum, Western Kentucky University at the address in this notice by April 9, 2021.

ADDRESSES: Sandy Staebell, Kentucky Museum, Western Kentucky University, 1906 College Heights Blvd., #11092, Bowling Green, KY 42101, telephone (270) 745-6260, email sandy.staebell@wku.edu.

SUPPLEMENTARY INFORMATION: Notice is here given in accordance with the Native American Graves Protection and Repatriation Act (NAGPRA), 25 U.S.C. 3005, of the intent to repatriate a cultural item under the control of the Kentucky Museum, Western Kentucky University, Bowling Green, KY, that meets the definition of an unassociated funerary object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

At an unknown date, one cultural item was removed from a burial mound in Stewart County, TN, by the Bureau of American Ethnology. On June 14, 1927, the item was transferred to the U.S. National Museum. On May 2, 1939, the item was transferred to Western Kentucky State Teachers College. This unassociated funerary object is a hoe (Catalog #336976).

Although provenance information for this unassociated funerary object is extremely limited, the available documentary evidence assigns its excavation to a mound in Stewart County, TN. A relationship of shared group identity can reasonably be traced between the Muskogean linguistic cultures and this object based on evidence linking the Chickasaw people to the southeastern United States, including Tennessee, as documented in the Treaty of 1816.

Determinations Made by the Kentucky Museum, Western Kentucky University

Officials of The Kentucky Museum, Western Kentucky University have determined that:

• Pursuant to 25 U.S.C. 3001(3)(B), the one cultural item described above is reasonably believed to have been placed with or near individual human remains at the time of death or later as part of the death rite or ceremony and is believed, by a preponderance of the evidence, to have been removed from a specific burial site of a Native American individual.

• Pursuant to 25 U.S.C. 3001(2), there is a relationship of shared group identity that can be reasonably traced between the unassociated funerary object and The Chickasaw Nation.

Additional Requestors and Disposition

Lineal descendants or representatives of any Indian Tribe or Native Hawaiian organization not identified in this notice that wish to claim this cultural item should submit a written request with information in support of the claim to Sandy Staebell, Kentucky Museum, Western Kentucky University, 1906 College Heights Blvd., #11092, Bowling Green, KY 42101, telephone (270) 745-6260, email sandy.staebell@wku.edu, by April 9, 2021. After that date, if no additional claimants have come forward, transfer of control of the unassociated funerary object to The Chickasaw Nation may proceed.

The Kentucky Museum, Western Kentucky University is responsible for notifying The Chickasaw Nation that this notice has been published.

Dated: February 25, 2021.
Melanie O'Brien,
Manager, National NAGPRA Program.

[FR Doc. 2021-04977 Filed 3-9-21; 8:45 am]

BILLING CODE 4312-52-P